DEPARTMENT OF HEALTH AND HUMAN SERVICES

National Institutes of Health

Center for Scientific Review; Amended Notice of Meeting

Notice is hereby given of a change in the meeting of the Center for Scientific Review Special Emphasis Panel, September 20, 2006, 1 p.m. to September 20, 2006, 3 p.m., National Institutes of Health, 6701 Rockledge Drive, Bethesda, MD 20892 which was published in the Federal Register on August 28, 2006, 71 FR 50932.

The meeting will be held September 19, 2006, 2 p.m. to 4:30 p.m. The meeting location remains the same. The meeting is closed to the public.

Dated: September 7, 2006.
Anna Snouffer,
Acting Director, Office of Federal Advisory Committee Policy.

[FR Doc. 06-7671 Filed 9-14-06; 8:45 am]

BILLING CODE 4140-01-M